DEPARTMENT OF ENERGY

Federal Energy Regulatory Commission

Combined Notice of Filings #1

Take notice that the Commission received the following exempt wholesale generator filings:

Docket Numbers: EG21-107-000.

Applicants: Citadel Solar, LLC.

Description: Citadel Solar, LLC submits Self-Certification of Exempt Wholesale Generator Status.

Filed Date: 3/11/21.

Accession Number: 20210311-5226.

Comments Due: 5 p.m. ET 4/1/21.

Docket Numbers: EG21-108-000.

Applicants: Assembly Solar II, LLC.

Description: Notice of Self-Certification of Exempt Wholesale Generator Status of Assembly Solar II, LLC.

Filed Date: 3/12/21.

Accession Number: 20210312-5154.

Comments Due: 5 p.m. ET 4/2/21.

Take notice that the Commission received the following electric rate filings:

Docket Numbers: ER10-2739-030; ER20-660-005; ER10-1892-017; ER16-1652-018.

Applicants: LS Power Marketing, LLC, Bolt Energy Marketing, LLC, Columbia Energy LLC, LifeEnergy, LLC.

Description: Triennial Market Power Analysis for Central Region of LS Power Marketing, LLC, et al.

Filed Date: 3/12/21.

Accession Number: 20210312-5099.

Comments Due: 5 p.m. ET 5/11/21.

Docket Numbers: ER15-704-021

Applicants: Pacific Gas and Electric Company.

Description: Compliance filing: CCSF Compliance filing to update Intervening Facilities (Mar 11, 2021) to be effective 7/1/2015.

Filed Date: 3/11/21.

Accession Number: 20210311-5204.

Comments Due: 5 p.m. ET 4/1/21.

Docket Numbers: ER20-756-001.

Applicants: North Jersey Energy Associates, A Limited Partnership.

Description: Report Filing: Refund Report under EL20-24 to be effective N/A.

Filed Date: 3/11/21.

Accession Number: 20210311-5169.

Comments Due: 5 p.m. ET 4/1/21.

Docket Numbers: ER20-1090-000.

Applicants: NorthWestern Corporation.

Description: NorthWestern Corporation, South Dakota submits Response to Deficiency Letter.

Filed Date: 3/12/21.

Accession Number: 20210312-5054.

Comments Due: 5 p.m. ET 4/2/21.

Docket Numbers: ER21-963-000.

Applicants: Silverstrand Grid, LLC.

Description: Supplement to January 28, 2021 Silverstrand Grid, LLC tariff filing.

Filed Date: 3/12/21.

Accession Number: 20210312-5077.

Comments Due: 5 p.m. ET 3/22/21.

Docket Numbers: ER21-1299-001.

Applicants: Black Hills Colorado Electric, LLC.

Description: Compliance filing: Supplemental Report Regarding WECC Soft Offer Cap to be effective N/A.

Filed Date: 3/12/21.

Accession Number: 20210312-5222.

Comments Due: 5 p.m. ET 4/2/21.

Docket Numbers: ER21-1332-000.

Applicants: Rubicon NYP Corp.

Description: Tariff Cancellation: Notice of Cancellation to be effective 3/30/2021.

Filed Date: 3/12/21.

Accession Number: 20210312-5001.

Comments Due: 5 p.m. ET 4/2/21.

Docket Numbers: ER21-1333-000.

Applicants: Pacific Gas and Electric Company.

Description: § 205(d) Rate Filing: SMUD Work Performance Agreement for Hurley-Proctor Line (TO SA 119) to be effective. 3/13/2021.

Filed Date: 3/12/21.

Accession Number: 20210312-5009.

Comments Due: 5 p.m. ET 4/2/21.

Docket Numbers: ER21-1337-000.

Applicants: Southwest Power Pool, Inc.

Description: § 205(d) Rate Filing: 2880R3 Enel Green Power Rattlesnake Creek Wind Project GIA to be effective 2/24/2021.

Filed Date: 3/12/21.

Accession Number: 20210312-5044.

Comments Due: 5 p.m. ET 4/2/21.

Docket Numbers: ER21-1338-000.

Applicants: Midcontinent Independent System Operator, Inc., American Transmission Company LLC.

Description: § 205(d) Rate Filing: 2021-03-12_SA 2801 ATC-City of Sturgeon Bay 1st Rev CFA to be effective 5/12/2021.

Filed Date: 3/12/21.

Accession Number: 20210312-5063

Comments Due: 5 p.m. ET 4/2/21.

Docket Numbers: ER21-1339-000.

Applicants: California Ridge Wind Energy LLC.

Description: Baseline eTariff Filing: Reactive Power Compensation Filing to be effective 5/11/2021.

Filed Date: 3/12/21.

Accession Number: 20210312-5067.

Comments Due: 5 p.m. ET 4/2/21.

Docket Numbers: ER21-1340-000.

Applicants: PPL Electric Utilities Corporation, PJM Interconnection, L.L.C.

Description: § 205(d) Rate Filing: PPL Electric submits SA No. 3880 to be effective 3/13/2021.

Filed Date: 3/12/21.

Accession Number: 20210312-5073.

Comments Due: 5 p.m. ET 4/2/21.

Docket Numbers: ER21-1341-000.

Applicants: PJM Interconnection, L.L.C.

Description: § 205(d) Rate Filing: Rev to OA, Sch. 12 & RAA, Sch. 17 RE defaulted member Entrust Energy East, Inc. to be effective 5/12/2021.

Filed Date: 3/12/21.

Accession Number: 20210312-5076.

Comments Due: 5 p.m. ET 4/2/21.

Docket Numbers: ER21-1342-000.

Applicants: Midcontinent Independent System Operator, Inc., American Transmission Company LLC.

Description: § 205(d) Rate Filing: 2021-03-12_SA 2776 ATC-Village of Prairie du Sac 1st Rev CFA to be effective 5/12/2021.

Filed Date: 3/12/21.

Accession Number: 20210312-5083.

Comments Due: 5 p.m. ET 4/2/21.

Docket Numbers: ER21-1343-000.

Applicants: LS Power Marketing, LLC, Bolt Energy Marketing, LLC, Columbia Energy LLC, LifeEnergy, LLC.

Description: Request for Exemption from Category 2 Seller Status in Central Region of LS Power Marketing, LLC, et al.

Filed Date: 3/12/21.

Accession Number: 20210312-5103.

Comments Due: 5 p.m. ET 4/2/21.

Docket Numbers: ER21-1348-000.

Applicants: Southwest Power Pool, Inc.

Description: § 205(d) Rate Filing: Revisions to Clarify Attachment AR Screening Study Process to be effective 5/12/2021.

Filed Date: 3/12/21.

Accession Number: 20210312-5135.

Comments Due: 5 p.m. ET 4/2/21.

Docket Numbers: ER21-1350-000.

Applicants: Citadel Solar, LLC.

Description: Baseline eTariff Filing: Citadel Solar, LLC MBR Tariff to be effective 3/13/2021.

Filed Date: 3/12/21.

Accession Number: 20210312-5140.

Comments Due: 5 p.m. ET 4/2/21.

Docket Numbers: ER21-1351-000.

Applicants: Midcontinent Independent System Operator, Inc., American Transmission Company LLC.

Description: § 205(d) Rate Filing: 2021-03-12_SA 2805 ATC-Rock Energy Cooperative 1st Rev CFA to be effective 5/12/2021.

Filed Date: 3/12/21.

Accession Number: 20210312-5144.

Comments Due: 5 p.m. ET 4/2/21.

Docket Numbers: ER21-1352-000.

Applicants: Public Service Company of Colorado.

Description: § 205(d) Rate Filing: 2021-03-12 OATT Att-W-E&P-FormofSvcAgrmt-NSPM & NSPW to be effective 5/12/2021.

Filed Date: 3/12/21.

Accession Number: 20210312-5149.

Comments Due: 5 p.m. ET 4/2/21.

Docket Numbers: ER21-1355-000.

Applicants: Midcontinent Independent System Operator, Inc., American Transmission Company LLC.

Description: § 205(d) Rate Filing: 2021-03-12_SA 2768 ATC-City of Plymouth 1st Rev CFA to be effective 5/12/2021.

Filed Date: 3/12/21.

Accession Number: 20210312-5175.

Comments Due: 5 p.m. ET 4/2/21.

Docket Numbers: ER21-1356-000.

Applicants: Little Bear Solar 1, LLC.

Description: § 205(d) Rate Filing: Notice of Non-Material Change in Status and Change in Category Seller Status to be effective. 3/13/2021.

Filed Date: 3/12/21.

Accession Number: 20210312-5179.

Comments Due: 5 p.m. ET 4/2/21.

Docket Numbers: ER21-1357-000.

Applicants: Little Bear Solar 3, LLC.

Description: § 205(d) Rate Filing: Notice of Non-Material Change in Status and Change in Category Seller Status to be effective. 3/13/2021.

Filed Date: 3/12/21.

Accession Number: 20210312-5183.

Comments Due: 5 p.m. ET 4/2/21.

Docket Numbers: ER21-1358-000.

Applicants: Little Bear Solar 4, LLC.

Description: § 205(d) Rate Filing: Notice of Non-Material Change in Status and Change in Category Seller Status to be effective. 3/13/2021.

Filed Date: 3/12/21.

Accession Number: 20210312-5184.

Comments Due: 5 p.m. ET 4/2/21.

Docket Numbers: ER21-1359-000.

Applicants: Little Bear Solar 5, LLC.

Description: § 205(d) Rate Filing: Notice of Non-Material Change in Status and Change in Category Seller Status to be effective. 3/13/2021.

Filed Date: 3/12/21.

Accession Number: 20210312-5188.

Comments Due: 5 p.m. ET 4/2/21.

Docket Numbers: ER21-1360-000.

Applicants: Little Bear Master Tenant, LLC.

Description: § 205(d) Rate Filing: Notice of Non-Material Change in Status and Change in Category Seller Status to be effective. 3/13/2021.

Filed Date: 3/12/21..

Accession Number: 20210312-5196

Comments Due: 5 p.m. ET 4/2/21.

Docket Numbers: ER21-1362-000.

Applicants: Sun Streams 2, LLC.

Description: § 205(d) Rate Filing: Notice of Non-Material Change in Status and Change in Category Seller Status to be effective. 3/13/2021.

Filed Date: 3/12/21.

Accession Number: 20210312-5207.

Comments Due: 5 p.m. ET 4/2/21.

Docket Numbers: ER21-1363-000.

Applicants: Public Service Company of New Mexico.

Description: § 205(d) Rate Filing: Transmission Service Agreements with Leeward Renewable Energy Development, LLC to be effective 5/12/2021.

Filed Date: 3/12/21.

Accession Number: 20210312-5215.

Comments Due: 5 p.m. ET 4/2/21.

Docket Numbers: ER21-1364-000.

Applicants: PJM Interconnection, L.L.C.

Description: § 205(d) Rate Filing: Revisions to Sch. 12-Appx A: February 2021 RTEP, 30-day Comment Period Requested to be effective 6/10/2021.

Filed Date: 3/12/21.

Accession Number: 20210312-5228.

Comments Due: 5 p.m. ET 4/2/21.

Docket Numbers: ER21-1365-000.

Applicants: Fowler Ridge IV Wind Farm LLC.

Description: Baseline eTariff Filing: Reactive Power Compensation Filing to be effective 3/13/2021.

Filed Date: 3/12/21.

Accession Number: 20210312-5242.

Comments Due: 5 p.m. ET 4/2/21.

Docket Numbers: ER21-1366-000.

Applicants: Power Authority of the State of New York, New York Independent System Operator, Inc.

Description: § 205(d) Rate Filing: Joint TPIA among the NYISO, NYPA and NextEra SA No. 2603 to be effective 2/26/2021.

Filed Date: 3/12/21.

Accession Number: 20210312-5249.

Comments Due: 5 p.m. ET 4/2/21.

Docket Numbers: ER21-1367-000.

Applicants: New York Independent System Operator, Inc., Central Hudson Gas & Electric Corporation.

Description: § 205(d) Rate Filing: 205: Joint NYISO-Central Hudson TPIA 2605 Transco Sgmnt B CEII to be effective 2/26/2021.

Filed Date: 3/12/21.

Accession Number: 20210312-5253.

Comments Due: 5 p.m. ET 4/2/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2021.
Nathaniel J. Davis, Sr.,
Deputy Secretary.

[FR Doc. 2021-05714 Filed 3-18-21; 8:45 am]

BILLING CODE 6717-01-P